DEPARTMENT OF COMMERCE

National Oceanic and Atmospheric Administration

Proposed Information Collection; Comment Request; An Observer Program for Vessels in the Pacific Coast Groundfish Fishery

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 22, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Janell Majewski, 206-860-3293, or Janell.Majewski@noaa.gov.

SUPPLEMENTARY INFORMATION:

I. Abstract

This is a request for a renewal of a currently approved information collection.

The National Marine Fisheries Service At-Sea Hake and West Coast Groundfish Observer Programs define observer duties, train and debrief observers, and manage observer data and its release. The observers, deployed aboard vessels participating in the US West Coast groundfish fishery, are hired by observer providers who contract with the vessels to provide the required observer coverage (50 CFR 660). This data collection relates to the response time for observer providers and observers to register for training, debriefing or responses to suspension or decertification.

II. Method of Collection

Respondents have a choice of either electronic or paper forms. Methods of submittal include electronic (Web-based or e-mail) and facsimile transmission of paper forms.

III. Data

OMB Control Number: 0648-0500.

Form Number: None.

Type of Review: Regular submission (renewal of a currently approved collection).

Affected Public: Business or other for-profit organizations.

Estimated Number of Respondents: 12.

Estimated Time Per Response: Training/briefing/debriefing registration, 7 minutes; contract submission, 5 minutes; change in ownership of observer provider company, 15 minutes; boarding refusals, 10 minutes; weekly status reports, 15 minutes; reports of observer illness, injury, harassment, intimidation, or violations of standards of conduct or conflict of interest, 15 minutes.

Estimated Total Annual Burden Hours: 111.

Estimated Total Annual Cost to Public: $2,856 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 17, 2010.
Gwellnar Banks,
Management Analyst, Office of the Chief Information Officer.

[FR Doc. 2010-20770 Filed 8-20-10; 8:45 am]

BILLING CODE 3510-22-P